DEPARTMENT OF ENERGY

Federal Energy Regulatory Commission

[Project No. 12455-004]

Borough of Lehighton, PA; Notice of Application Tendered for Filing With the Commission, Soliciting Additional Study Requests, Intent To Waive Stage Two Pre-Filing Consultation Provisions and Post-Filing Scoping, Establishing an Expedited Schedule for Licensing, and Establishing the Deadline for Submission of Final Amendments

January 22, 2007.

Take notice that the following hydroelectric application has been filed with the Commission and is available for public inspection.

a. Type of Application: Original License.

b. Project No.: 12455-004.

c. Date Filed: December 29, 2006.

d. Applicant: Borough of Lehighton, Pennsylvania.

e. Name of Project: Beltzville Hydroelectric Project.

f. Location: The project would be connected to the U.S. Army Corps of Engineers Beltzville Dam, located on Pohopoco Creek, in the Borough of Lehighton, Carbon County, Pennsylvania.

g. Filed Pursuant to: The Federal Power Act, 16 U.S.C. 791 (a)-825(r)

h. Applicant Contact: Mr. John F. Hanosek, P.E., Borough Manager, P.O. Box 29, Municipal Building, Second and South Street, Lehighton, PA 18235, (610) 377-4002.

i. FERC Contact: Jack Hannula, (202) 502-8917 or john.hannula@ferc.gov.

j. Cooperating agencies: We are asking Federal, State, local, and tribal agencies with jurisdiction and/or special expertise with respect to environmental issues to cooperate with us in the preparation of the environmental document. Agencies who would like to request cooperating status should follow the instructions for filing comments described in item l below.

k. Pursuant to section 4.32(b)(7) of 18 CFR of the Commission's regulations, if any resource agency, Indian Tribe, or person believes that an additional scientific study should be conducted in order to form an adequate factual basis for a complete analysis of the application on its merits, the resource agency, Indian Tribe, or person must file a request for a study with the Commission not later than 60 days from the date of filing of the application, and serve a copy of the request on the applicant.

l. Deadline for filing additional study requests and requests for cooperating agency status: February 27, 2007.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “eFiling” link.

m. The application is not ready for environmental analysis at this time.

n. The project would be located at the existing Corps of Engineers Beltzville Dam which is a 175-foot-high, 4,600-foot-long earth-fill dam with a 23-foot-high, 2,000-foot-long un-gated concrete spillway. The reservoir has 949 surface acres at a normal water surface elevation of 628.0 feet, mean sea level (msl).

The proposed Beltzville Hydroelectric Project would consist of: (1) A new, approximately 150-foot-long penstock connected to the downstream side of Beltsville Dam via an existing outlet conduit that would be modified to include a 78-inch diameter steel pipe liner, a new 78-inch butterfly valve, Y-branch, and 84-inch slide gate: (2) the penstock would lead to a new 60-foot-long, 30-foot-wide powerhouse which would contain two generating units, a 1,700 kilowatt (kW) unit and a 900 kW generating unit; and (3) a 300-foot-long, 12-kilovolt transmission line. The estimated average annual generation would be 9,470 megawatt hours (MWh). The project would be operated in a run-of-river mode.

o. A copy of the application is available for review at the Commission in the Public Reference Room or may be viewed on the Commission's Web site at http://www.ferc.gov using the “eLibrary” link. Enter the docket number (P-12455) excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Pennsylvania State Historic Preservation Officer (SHPO), as required by section 106, National Historic Preservation Act, and the regulations of the Advisory Council on Historic Preservation, 36 CFR 800.4.

q. Waiver of Pre-filing Consultation: We intend to waive pre-filing consultation sections 4.38(c)(4-9) which require distribution and consultation on a draft license application.

r. Expedited procedural schedule: We intend to use the pre-filing consultation that has occurred on this project as our National Environmental Policy Act scoping and issue a single environmental assessment rather than a draft and final EA. We intend to give at least 30 days for entities to comment on the EA, and will consider all comments received on the EA before final action is taken on the application.

r. Final Amendments: Final amendments to the application must be filed with the Commission no later than 30 days from the issuance date of the notice of ready for environmental analysis.

Magalie R. Salas,
Secretary.

[FR Doc. E7-1242 Filed 1-25-07; 8:45 am]

BILLING CODE 6717-01-P